FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 22, 2005.

A. Federal Reserve Bank of Minneapolis (Jacqueline G. King, Community Affairs Officer) 90 Hennepin Avenue, Minneapolis, Minnesota 55480-0291:

1. John C. Elsenpeter 2004 Term Trust and the John C. Elsenpeter 2005 Term Trust; John C. Elsenpeter, individually and as trustee of the JCE Trusts; the Vicki J. Elsenpeter 2004 Term Trust and the Vicki J. Elsenpeter 2005 Term Trust; and Vicki J. Elsenpeter, individually and as trustee of the VJE Trusts, all of Walker, Minnesota; a group acting in concert, to acquire voting shares of Walker Ban Co., Walker, Minnesota, and thereby indirectly gain control of First National Bank of Walker, Walker, Minnesota and Lakes State Bank, Pequot Lakes, Minnesota.

B. Federal Reserve Bank of Kansas City (Donna J. Ward, Assistant Vice President) 925 Grand Avenue, Kansas City, Missouri 64198-0001:

1. Clarkson D. Lauritzen, Omaha, Nebraska; to acquire control of The Viking Corporation, Omaha, Nebraska, and thereby indirectly acquire Crawford County Trust and Savings Bank, Denison, Iowa, and Landmands National Bank, Audubon, Iowa.

Board of Governors of the Federal Reserve System, November 1, 2005.
Robert deV. Frierson,
Deputy Secretary of the Board.

[FR Doc. E5-6120 Filed 11-3-05; 8:45 am]

BILLING CODE 6210-01-S